DEPARTMENT OF THE INTERIOR

U.S. Geological Survey

Agency Information Collection Activities: Comment Request for the Comprehensive Test Ban Treaty (1 Form)

AGENCY: U.S. Geological Survey (USGS), Interior.

ACTION: Notice of an extension of an information collection (1028-0059).

SUMMARY: To comply with the Paperwork Reduction Act of 1995 (PRA), we are notifying the public that we have submitted to the Office of Management and Budget (OMB) an information collection request (ICR) for the extension of the currently approved paperwork requirements for the USGS Comprehensive Test Ban Treaty (CTBT). This collection consists of one form and this notice provides the public an opportunity to comment on the paperwork burden of this form. We may not conduct or sponsor, and a person is not required to respond to, a collection of information unless it displays a currently valid OMB control number.

DATES: You must submit comments on or before August 23, 2010.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-0059. Please also submit a copy of your written comments to Phadrea Ponds, USGS Information Collection Clearance Officer, 2150-C Centre Avenue, Fort Collins, CO 80526-8118 (mail); 970-226-9230 (fax); or pondsp@usgs.gov (e-mail). Use OMB Control Number 1028-0059 in the subject line.

FOR FURTHER INFORMATION CONTACT: Scott F. Sibley at U.S. Geological Survey, 989 National Center, 12201 Sunrise Valley Drive, Reston, VA 20192 (mail); 703-648-4976 (telephone); or ssibley@usgs.gov (e-mail).

SUPPLEMENTARY INFORMATION:

I. Abstract

The collection of this information is required by the CTBT, and will provide the CTBT Technical Secretariat with geographic locations of sites where chemical explosions greater than 300 tons TNT-equivalent have occurred or will occur in in the next calendar year.

II. Data

OMB Control Number: 1028-0059.

Form Number: 9-4040-A.

Title: Comprehensive Test Ban Treaty.

Type of Request: Extension of a currently approved collection.

Respondent Obligation: Voluntary.

Frequency of Collection: Annually.

Affected Public: U.S. nonfuel minerals producers.

Estimated Number of Annual Responses: 2,100.

Annual Burden Hours: 525 hours. We expect to receive 2,100 annual responses. We estimate an average of 15 minutes per response. This includes the time for reviewing instructions, gathering and maintaining data, and completing and reviewing the information.

Estimated Reporting and Recordkeeping “Non-Hour Cost” Burden: We have not identified any “non-hour cost” burdens associated with this collection of information.

III. Request for Comments

On November 9, 2009, we published a Federal Register notice (74 FR 57698) announcing that we would submit this ICR to OMB for approval and soliciting comments. The comment period closed on January 8, 2010. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address, or other personal identifying information in your comment, you should be aware that your entire comment, including your personal identifying information, may be made publicly available at any time. While you can ask us in your comment to withhold your personal identifying information from public review, we cannot guarantee that we will be able to do so.

USGS Information Collection Clearance Officer: Phadrea Ponds 970-226-9445.

Dated: July 16, 2010.
John H. DeYoung, Jr.,
Director, National Minerals Information Center, U.S. Geological Survey.

[FR Doc. 2010-18016 Filed 7-22-10; 8:45 am]

BILLING CODE P